DEPARTMENT OF COMMERCE

International Trade Administration

[A-549-833]

Citric Acid and Certain Citrate Salts From Thailand: Final Results of Antidumping Duty Administrative Review; 2018-2019

AGENCY: Enforcement and Compliance, International Trade Administration, Department of Commerce.

SUMMARY: The Department of Commerce (Commerce) finds that sales of citric acid and certain citrate salts (citric acid) from Thailand were made by COFCO Biochemical (Thailand) Co., Ltd. (COFCO) and Niran (Thailand) Co., Ltd. (Niran) at less than normal value (NV) during the period of review (POR) January 8, 2018, through June 30, 2019. We also find that Sunshine Biotech International Co., Ltd. (Sunshine) did not sell citric acid at less than NV during the POR.

DATES: Applicable February 11, 2021.

FOR FURTHER INFORMATION CONTACT: Joy Zhang (COFCO), Katherine Sliney (Niran), or Jolanta Lawska (Sunshine), AD/CVD Operations, Office III, Enforcement and Compliance, International Trade Administration, U.S. Department of Commerce, 1401 Constitution Avenue NW, Washington, DC 20230; telephone: (202) 482-1168, (202) 482-2437, or (202) 482-8362, respectively.

SUPPLEMENTARY INFORMATION:

Background

On August 12, 2020, we published the Preliminary Results of this administrative review.¹ We invited interested parties to comment on the Preliminary Results. We received case briefs from COFCO and Niran.² We received a rebuttal brief from Archer Daniels Midland Company, Cargill Incorporated, and Tate & Lyle Ingredients Americas LLC (collectively, the petitioners).³

¹ See Citric Acid and Certain Citrate Salts from Thailand: Preliminary Results of Antidumping Duty Administrative Review; 2018-2019, 85 FR 48672 (August 12, 2020) (Preliminary Results).

² See COFCO's Letter, “Citric Acid and Certain Citrate Salts from Thailand: Case Brief,” dated September 11, 2020; see also Niran's Letter, “Citric Acid and Certain Citrate Salts from Thailand: Case Brief,” dated September 11, 2020.

³ See Petitioners' Letter, “Citric Acid and Certain Citrate Salts from Thailand: Petitioners' Rebuttal Brief,” dated September 18, 2020.

On July 21, 2020, Commerce tolled all deadlines in administrative reviews by 60 days, thereby extending the deadline for these final results until January 19, 2021.⁴ On January 7, 2021, we extended the deadline for the final results of this review to February 16, 2021.⁵ A complete summary of the events that occurred since publication of the Preliminary Results may be found in the Issues and Decision Memorandum.⁶ Commerce conducted this administrative review in accordance with section 751 of the Tariff Act of 1930, as amended (the Act).

⁴ See Memorandum, “Tolling of Deadlines for Antidumping and Countervailing Duty Administrative Reviews,” dated July 21, 2020.

⁵ See Memorandum, “Extension of Deadline for Final Results of Antidumping Duty Administrative Review—Citric Acid and Certain Citrate Salts from Thailand,” dated January 7, 2021.

⁶ See Memorandum, “Decision Memorandum for the Final Results of 2018-2019 Administrative Review of the Antidumping Duty Order on Citric Acid and Certain Citrate Salts from Thailand,” dated concurrently with, and hereby adopted by, this notice (Issues and Decision Memorandum).

Scope of the Order

The merchandise covered by this order includes all grades and granulation sizes of citric acid, sodium citrate, and potassium citrate in their unblended forms, whether dry or in solution, and regardless of packaging type. The scope also includes blends of citric acid, sodium citrate, and potassium citrate; as well as blends with other ingredients, such as sugar, where the unblended form(s) of citric acid, sodium citrate, and potassium citrate constitute 40 percent or more, by weight, of the blend.

Citric acid and sodium citrate are classifiable under 2918.14.0000 and 2918.15.1000 of the Harmonized Tariff Schedule of the United States (HTSUS), respectively. Potassium citrate and crude calcium citrate are classifiable under 2918.15.5000 and, if included in a mixture or blend, 3824.99.9295 of the HTSUS. Blends that include citric acid, sodium citrate, and potassium citrate are classifiable under 3824.99.9295 of the HTSUS. Although the HTSUS sub-headings are provided for convenience and customs purposes, the written description of the merchandise is dispositive. For a full description of the scope of the Order, see the Preliminary Decision Memorandum.

Analysis of Comments Received

All issues raised by the parties in their case and rebuttal briefs are listed in the appendix to this notice and are addressed in the Issues and Decision Memorandum. The Issues and Decision Memorandum is a public document and is on-file electronically via Enforcement and Compliance's Antidumping and Countervailing Duty Centralized Electronic Service System (ACCESS). ACCESS is available to registered users at https://access.trade.gov. In addition, a complete version of the Issues and Decision Memorandum can be accessed directly at http://enforcement.trade.gov/frn/. The signed Issues and Decision Memorandum and the electronic version of the Issues and Decision Memorandum are identical in content.

We made no changes to the Preliminary Results.

Final Results of the Review

The weighted-average dumping margins for the final results of this administrative review are as follows:

Exporter/producer | Weighted- average dumping margin (percent)
COFCO Biochemical (Thailand) Co., Ltd. (COFCO) | 0.76.
Niran (Thailand) Co., Ltd. (Niran) | 54.11.
Sunshine Biotech International Co., Ltd. (Sunshine) | 0.00 (de minimis).

Assessment Rates

Pursuant to section 751(a)(2)(A) of the Act and 19 CFR 351.212(b)(1), Commerce will determine, and U.S. Customs and Border Protection (CBP) shall assess, antidumping duties on all appropriate entries of subject merchandise in accordance with the final results of this review.

Since COFCO and Niran have weighted-average dumping margins above de minimis (i.e., greater than 0.5 percent), Commerce has calculated importer-specific ad valorem antidumping duty assessment rates. We calculated importer-specific antidumping duty assessment rates by aggregating the total amount of dumping calculated for the examined sales of each importer and dividing each of these amounts by the total sales value associated with those sales. We will instruct CBP to assess antidumping duties on all appropriate entries covered by this review where an importer-specific assessment rate is not zero or de minimis. Pursuant to 19 CFR 351.106(c)(2), we will instruct CBP to liquidate without regard to antidumping duties any entries for which the importer-specific assessment rate is zero or de minimis.

In accordance with our practice, for entries of subject merchandise during the POR for which a respondent did not know that the merchandise was destined for the United States, we will instruct CBP to liquidate such entries at the all-others rate if there is no rate for the intermediate company(ies) involved in the transaction.

Consistent with its recent notice,⁷ Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

⁷ See Notice of Discontinuation of Policy to Issue Liquidation Instructions After 15 Days in Applicable Antidumping and Countervailing Duty Administrative Proceedings, 86 FR 3995 (January 15, 2021).

Cash Deposit Requirements

The following cash deposit requirements will be effective upon publication of the notice of final results of administrative review for all shipments of citric acid from Thailand entered, or withdrawn from warehouse, for consumption on or after the date of publication of the final results, as provided by section 751(a)(2) of the Act: (1) The cash deposit rate for the firms listed above will be equal to the dumping margins established in the final results of this review, except if the ultimate rates are de minimis within the meaning of 19 CFR 351.106(c)(1), in which case the cash deposit rates will be zero; (2) for merchandise exported by producers or exporters not covered in this administrative review but covered in a prior segment of the proceeding, the cash deposit rate will continue to be the company-specific rate published for the most recently completed segment of this proceeding in which the producer or exporter participated; (3) if the exporter is not a firm covered in this review, a prior review, or the original less-than-fair-value investigation but the producer is, then the cash deposit rate will be the rate established for the most recently completed segment of the proceeding for the producer of the merchandise; and (4) the cash deposit rate for all other producers or exporters will continue to be 11.25 percent, the all-others rate established in the antidumping duty investigation.⁸ These cash deposit requirements, when imposed, shall remain in effect until further notice.

⁸ See Citric Acid and Certain Citrate Salts From Belgium, Colombia and Thailand: Antidumping Duty Orders, 83 FR 35214 (July 25, 2018).

Notification to Importers

This notice also serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of doubled antidumping duties.

Administrative Protective Order

This notice also serves as a reminder to parties subject to administrative protective order (APO) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

Notification to Interested Parties

We are issuing and publishing these results in accordance with sections 751(a)(1) and 777(i)(1) of the Act, and 19 CFR 351.213(h)(1).

Dated: February 5, 2021.
Christian Marsh,
Acting Assistant Secretary for Enforcement and Compliance.

Appendix—List of Topics Discussed in the Final Decision Memorandum

I. Summary

II. Background

III. Scope of the Order

IV. Discussion of the Issues

Comment 1: Whether to Depart From the Standard Differences in Merchandise Test

Comment 2: Whether Costs to Further Manufacture Byproducts Should Continue To Be Captured

Comment 3: Whether to Depart From the Standard Differential Pricing Methodology

Comment 4: Whether Compelling Reasons Exist To Make Modifications to the Existing Model-Match Criteria

Comment 5: Whether To Make Adjustments To Exclude Shutdown Periods From Reported Costs

V. Recommendation

[FR Doc. 2021-02821 Filed 2-10-21; 8:45 am]

BILLING CODE 3510-DS-P